AGENCY FOR INTERNATIONAL DEVELOPMENT

Bureau for Democracy, Conflict and Humanitarian Assistance, Office of Food for Peace; Announcement of Draft Pub. L. 480 Title II Guidelines for FY 2004 Cooperating Sponsor Results Report and Resource Request (CSR4); Notice

Pursuant to the Agricultural Trade Development and Assistance Act of 1954 (Pub. L. 480, as amended), notice is hereby given that the Pub. L. 480 Title II Guidelines for FY 2004 Cooperating Sponsor Results Report and Resource Request (CSR4) are being made available to interested parties for the required thirty (30) day comment period.

Individuals who wish to receive a copy of these draft guidelines should contact: Office of Food for Peace, Agency for International Development, RRB 7.06-153, 1300 Pennsylvania Avenue, Washington, DC 20523-7600. Individuals who have questions or comments on the draft guidelines should contact Angelique M. Crumbly at the above address or at (202) 712-4279.

The thirty-day comment period will begin on the date that this announcement is published in the Federal Register.

Dated: August 15, 2002.
Lauren Landis,
Director, Office of Food for Peace, Bureau for Democracy, Conflict and Humanitarian Assistance.

[FR Doc. 02-21771 Filed 8-26-02; 8:45 am]

BILLING CODE 6116-01-P